DEPARTMENT OF ENERGY

Federal Energy Regulatory Commission

Privacy Act of 1974; System of Records

AGENCY: Federal Energy Regulatory Commission (FERC), DOE.

ACTION: Rescindment of a system of records notice.

SUMMARY: Pursuant to the Privacy Act of 1974 and Office of Management and Budget (OMB) Circular No. A-108, the Federal Energy Regulatory Commission (Commission or FERC) proposes to rescind an existing system of records notice (SORN). Specifically, the following SORN is being proposed for rescindment “Commission Employee Suggestions File (FERC-20)”. The basis for rescindment is explained below.

DATES: Comments on this rescindment notice must be received no later than 30 days after the date of publication in the Federal Register. If no public comment is received during the period allowed for comment or unless otherwise published in the Federal Register by FERC, the rescindment will become effective a minimum of 30 days after the date of publication in the Federal Register. If FERC receives public comments, FERC shall review the comments to determine whether any changes to the notice are necessary.

ADDRESSES: Comments may be submitted in writing to Federal Energy Regulatory Commission, 888 First Street NE, Washington, DC 20426 or electronically to privacy@ferc.gov. Comments should indicate that they are submitted in response to “Commission Employee Suggestions File (FERC-20).”

FOR FURTHER INFORMATION CONTACT: Mittal Desai, Chief Information Officer & Senior Agency Official for Privacy, Office of the Executive Director, Federal Energy Regulatory Commission, 888 First Street NE, Washington, DC 20426, privacy@ferc.gov, (202) 502-6432.

SUPPLEMENTARY INFORMATION: Commission Employee Suggestions File (FERC—20) was identified for rescindment from FERC's Privacy Act systems of records inventory because the records are not Privacy Act records. Mere maintenance of personal information about an individual is not enough to create Privacy Act system of records. To satisfy the elements of a system of records, there must be (1) group of records; (2) under the control of a Government agency; and (3) those records must be retrieved by a personal identifier. Under the Privacy Act, a record is defined as “any item, collection, or grouping of information about an individual that is maintained by an agency.” FERC accepts employee suggestions ad hoc during meetings or through communication with the Workforce Relations Division. The Commission is rescinding this System of Records Notice because the Program collects no individual identifiers on which searches are conducted, thereby making a System of Records Notice unnecessary.

SYSTEM NAME AND NUMBER:

Commission Employee Suggestions File (FERC-20).

HISTORY:

65 FR 21746 (April 24, 2000).

Dated: September 30, 2024.
Debbie-Anne A. Reese,
Acting Secretary.

[FR Doc. 2024-23049 Filed 10-4-24; 8:45 am]

BILLING CODE 6717-01-P